DEPARTMENT OF TRANSPORTATION

Coast Guard

[USCG-2000-7081]

National Offshore Safety Advisory Committee

AGENCY: Coast Guard, DOT.

ACTION: Notice of meetings.

SUMMARY: The National Offshore Safety Advisory Committee (NOSAC) will meet to discuss various issues relating to offshore safety. The meeting will be open to the public.

DATES: NOSAC will meet on Thursday, April 20, 2000, from 9:00 a.m. to 3:00 p.m. The meeting may close early if all business is finished. Written material and requests to make oral presentations should reach the Coast Guard on or before April 6, 2000. Requests to have a copy of your material distributed to each member of the committee should reach the Coast Guard on or before April 6, 2000.

ADDRESSES: NOSAC will meet in rooms 6200-6204, of the NASSIF Building, 400 7th Street, SW, Washington, DC. Send written material and requests to make oral presentations to Captain P.A. Richardson, Commandant (G-MSO), U.S. Coast Guard Headquarters, 2100 Second Street SW., Washington, DC 20593-0001. This notice is available on the Internet at http://dms.dot.gov.

FOR FURTHER INFORMATION CONTACT: Captain P.A. Richardson, Executive Director of NOSAC, or Mr. Jim Magill, Assistant to the Executive Director, telephone 202-267-0214, fax 202-267-4570.

SUPPLEMENTARY INFORMATION: Notice of this meeting is given under the Federal Advisory Committee Act, 5 U.S.C. App. 2.

Agenda of Meeting

National Offshore Safety Advisory Committee (NOSAC). The agenda includes the following:

(1) Report on development and implementation of STCW Convention for OSVs.

(2) Progress report from the Prevention Through People Subcommittee.

(3) Report on issues concerning the International Maritime Organization (IMO) and the International Organization of Standardization (ISO).

(4) Status report from Incident Reporting Subcommittee.

(5) Report from Platform/Ship Collision Avoidance Subcommittee.

(6) Progress report from the Subcommittee on Pipeline-Free Anchorages for Mobile Offshore Drilling Units, Liftboats and Vessels.

(7) Status reports on revision of 33 CFR Subchapter “N”, Outer Continental Shelf Regulations, and new regulations for large offshore supply vessels and crewboats, (46 CFR Subchapter “L”).

(8) Report on the USCG/MMS Memorandum of Understanding.

(9) Establish Subcommittee on Risk Assessment of Deepwater Activities.

(10) New Discussion items will include: 12-hour manning rule as it applies to OSVs; training of licensed OSV engineers; and, manning and fatigue issues on OSVs.

Procedural

The meeting is open to the public. Please note that the meeting may close early if all business is finished. At the Chair's discretion, members of the public may make oral presentations during the meeting. If you would like to make an oral presentation at the meeting, please notify the Executive Director no later than April 6, 2000. Written material for distribution at the meeting should reach the Coast Guard no later than April 6, 2000. If you would like a copy of your material distributed to each member of the committee or subcommittee in advance of the meeting, please submit 25 copies to the Executive Director no later than April 6, 2000.

Information on Services for Individuals With Disabilities

For information on facilities or services for individuals with disabilities or to request special assistance at the meetings, contact the Executive Director as soon as possible.

Dated: March 17, 2000.
P. A. Richardson,
Captain, Coast Guard, Acting Director of Standards, Marine Safety and Environmental Protection.

[FR Doc. 00-7247 Filed 3-22-00; 8:45 am]

BILLING CODE 4910-15-U